DEPARTMENT OF ENERGY

Federal Energy Regulatory Commission

Combined Notice of Filings #1

Take notice that the Commission received the following exempt wholesale generator filings:

Docket Numbers: EG23-68-000.

Applicants: White Trillium Solar, LLC.

Description: White Trillium Solar, LLC submits Notice of Self-Certification of Exempt Wholesale Generator Status.

Filed Date: 1/26/23.

Accession Number: 20230126-5148.

Comment Date: 5 p.m. ET 2/16/23.

Docket Numbers: EG23-69-000.

Applicants: Second Division Solar, LLC.

Description: Second Division Solar, LLC submits Notice of Self-Certification of Exempt Wholesale Generator Status.

Filed Date: 1/26/23.

Accession Number: 20230126-5152.

Comment Date: 5 p.m. ET 2/16/23.

Docket Numbers: EG23-70-000.

Applicants: Starr Solar Ranch, LLC.

Description: Starr Solar Ranch, LLC submits Notice of Self-Certification of Exempt Wholesale Generator Status.

Filed Date: 1/26/23.

Accession Number: 20230126-5154.

Comment Date: 5 p.m. ET 2/16/23.

Docket Numbers: EG23-71-000.

Applicants: Prairie Ronde Solar Farm, LLC.

Description: Prairie Ronde Solar Farm, LLC submits Notice of Self-Certification of Exempt Wholesale Generator Status.

Filed Date: 1/26/23.

Accession Number: 20230126-5159.

Comment Date: 5 p.m. ET 2/16/23.

Docket Numbers: EG23-72-000.

Applicants: Honeysuckle Solar, LLC.

Description: Honeysuckle Solar, LLC submits Notice of Self-Certification of Exempt Wholesale Generator Status.

Filed Date: 1/26/23.

Accession Number: 20230126-5163.

Comment Date: 5 p.m. ET 2/16/23.

Docket Numbers: EG23-73-000.

Applicants: Wolfskin Solar, LLC.

Description: Wolfskin Solar, LLC submits Notice of Self-Certification of Exempt Wholesale Generator Status.

Filed Date: 1/27/23.

Accession Number: 20230127-5044.

Comment Date: 5 p.m. ET 2/17/23.

Docket Numbers: EG23-74-000.

Applicants: Bird Dog Solar, LLC.

Description: Bird Dog Solar, LLC submits Notice of Self-Certification of Exempt Wholesale Generator Status.

Filed Date: 1/27/23.

Accession Number: 20230127-5045.

Comment Date: 5 p.m. ET 2/17/23.

Docket Numbers: EG23-75-000.

Applicants: Hobnail Solar, LLC.

Description: Hobnail Solar, LLC submits Notice of Self-Certification of Exempt Wholesale Generator Status.

Filed Date: 1/27/23.

Accession Number: 20230127-5047.

Comment Date: 5 p.m. ET 2/17/23.

Take notice that the Commission received the following electric rate filings:

Docket Numbers: ER10-2398-012; ER10-2399-012; ER10-2406-013; ER10-2409-012; ER10-2410-012; ER10-2411-013; ER10-2412-013; ER10-2414-018; ER11-2935-014; ER13-1816-019; ER14-1933-012; ER16-1724-010; ER17-1315-010; ER17-2087-008; ER18-1189-007; ER19-1281-006; ER19-1282-005; ER20-2714-003; ER20-2746-004.

Applicants: Riverstart Solar Park LLC, Headwaters Wind Farm II LLC, Paulding Wind Farm IV LLC, Lexington Chenoa Wind Farm LLC, Meadow Lake Wind Farm VI LLC, Hog Creek Wind Project, LLC, Meadow Lake Wind Farm V LLC, Paulding Wind Farm III LLC, Headwaters Wind Farm LLC, Sustaining Power Solutions LLC, Paulding Wind Farm II LLC, Old Trail Wind Farm, LLC, Meadow Lake Wind Farm IV LLC, Meadow Lake Wind Farm III LLC, Meadow Lake Wind Farm II LLC, Meadow Lake Wind Farm LLC, High Trail Wind Farm, LLC, Blackstone Wind Farm II LLC, Blackstone Wind Farm, LLC.

Description: Notice of Change in Status of Blackstone Wind Farm, LLC, et al.

Filed Date: 1/25/23.

Accession Number: 20230125-5166.

Comment Date: 5 p.m. ET 2/15/23.

Docket Numbers: ER22-2974-002.

Applicants: Southwest Power Pool, Inc., Nebraska Public Power District

Description: Tariff Amendment: Nebraska Public Power District submits tariff filing per 35.17(b): Deficiency Response—Nebraska Public Power District Revisions to Protocols to be effective 3/29/2023.

Filed Date: 1/27/23.

Accession Number: 20230127-5032.

Comment Date: 5 p.m. ET 2/17/23.

Docket Numbers: ER23-531-000.

Applicants: Harry Allen Solar Energy LLC.

Description: Supplement to December 1, 2022 Harry Allen Solar Energy LLC tariff filing.

Filed Date: 1/26/23.

Accession Number: 20230126-5181.

Comment Date: 5 p.m. ET 2/16/23.

Docket Numbers: ER23-577-001.

Applicants: PJM Interconnection, L.L.C.

Description: Tariff Amendment: Request to Defer Action-Amended ISA No. 2360; Queue AD2-133/Q36; Docket ER23-577 to be effective 12/31/9998.

Filed Date: 1/26/23.

Accession Number: 20230126-5119.

Comment Date: 5 p.m. ET 2/16/23.

Docket Numbers: ER23-944-000.

Applicants: Calpine Community Energy, LLC.

Description: Baseline eTariff Filing: Market-Based Rate Application to be effective 1/27/2023.

Filed Date: 1/26/23.

Accession Number: 20230126-5104.

Comment Date: 5 p.m. ET 2/16/23.

Docket Numbers: ER23-945-000.

Applicants: Relief Energy LLC.

Description: Baseline eTariff Filing: Market-Based Rate Tariff Application to be effective 1/27/2023.

Filed Date: 1/26/23.

Accession Number: 20230126-5107.

Comment Date: 5 p.m. ET 2/16/23.

Docket Numbers: ER23-946-000.

Applicants: Clear Green Energy LLC.

Description: Baseline eTariff Filing: Market-Based Rate Tariff Application to be effective 1/27/2023.

Filed Date: 1/26/23.

Accession Number: 20230126-5110.

Comment Date: 5 p.m. ET 2/16/23.

Docket Numbers: ER23-947-000.

Applicants: PJM Interconnection, L.L.C.

Description: § 205(d) Rate Filing: Original ISA, Service Agreement No. 6768; Queue No. AF1-325 to be effective 12/28/2022.

Filed Date: 1/27/23.

Accession Number: 20230127-5003.

Comment Date: 5 p.m. ET 2/17/23.

Docket Numbers: ER23-948-000.

Applicants: Midcontinent Independent System Operator, Inc.

Description: § 205(d) Rate Filing: 2023-01-27_Schedule 31 Annual Update Filing to be effective 4/1/2023.

Filed Date: 1/27/23.

Accession Number: 20230127-5007.

Comment Date: 5 p.m. ET 2/17/23.

Docket Numbers: ER23-949-000.

Applicants: Public Service Company of Colorado.

Description: § 205(d) Rate Filing: Notice of Change in Status and MBR Tariff Revisions to be effective 4/1/2023.

Filed Date: 1/27/23.

Accession Number: 20230127-5015.

Comment Date: 5 p.m. ET 2/17/23.

Docket Numbers: ER23-950-000.

Applicants: Macquarie Energy LLC.

Description: § 205(d) Rate Filing: Revised Market-Based Rate Tariff to be effective 1/28/2023.

Filed Date: 1/27/23.

Accession Number: 20230127-5017.

Comment Date: 5 p.m. ET 2/17/23.

Docket Numbers: ER23-951-000.

Applicants: Macquarie Energy Trading LLC.

Description: § 205(d) Rate Filing: Revised Market-Based Rate Tariff to be effective 1/28/2023.

Filed Date: 1/27/23.

Accession Number: 20230127-5020.

Comment Date: 5 p.m. ET 2/17/23.

Docket Numbers: ER23-952-000.

Applicants: Commonwealth Edison Company, Commonwealth Edison Company of Indiana, Inc., PJM Interconnection, L.L.C.

Description: § 205(d) Rate Filing: Commonwealth Edison Company submits tariff filing per 35.13(a)(2)(iii: ComEd Single Issue Depreciation Filing to update Service Agreement No. 3747 to be effective 3/31/2023.

Filed Date: 1/27/23.

Accession Number: 20230127-5024.

Comment Date: 5 p.m. ET 2/17/23.

Docket Numbers: ER23-953-000.

Applicants: Duke Energy Florida, LLC.

Description: § 205(d) Rate Filing: DEF-City of Alachua A&R NITSA SA No. 305 to be effective 4/1/2023.

Filed Date: 1/27/23.

Accession Number: 20230127-5033.

Comment Date: 5 p.m. ET 2/17/23.

Docket Numbers: ER23-954-000.

Applicants: Commonwealth Edison Company, Commonwealth Edison Company of Indiana, Inc., PJM Interconnection, L.L.C.

Description: § 205(d) Rate Filing: Commonwealth Edison Company submits tariff filing per 35.13(a)(2)(iii: ComEd Single Issue Depreciation Filing to update Attachment H-13A to be effective 3/31/2023.

Filed Date: 1/27/23.

Accession Number: 20230127-5037.

Comment Date: 5 p.m. ET 2/17/23.

Docket Numbers: ER23-955-000.

Applicants: Public Service Company of Colorado.

Description: § 205(d) Rate Filing: 2023-01-27 CORE SISA 670-PSC 0.1.0 to be effective 3/28/2023.

Filed Date: 1/27/23.

Accession Number: 20230127-5040.

Comment Date: 5 p.m. ET 2/17/23.

Docket Numbers: ER23-956-000.

Applicants: Black Hills Power, Inc.

Description: § 205(d) Rate Filing: Revisions to JOATT to Facilitate WEIS Market Integration to be effective 4/1/2023.

Filed Date: 1/27/23.

Accession Number: 20230127-5041.

Comment Date: 5 p.m. ET 2/17/23.

Docket Numbers: ER23-957-000.

Applicants: Black Hills Colorado Electric, LLC.

Description: § 205(d) Rate Filing: Revisions to OATT to Facilitate WEIS Market Integration to be effective 4/1/2023.

Filed Date: 1/27/23.

Accession Number: 20230127-5049.

Comment Date: 5 p.m. ET 2/17/23.

Docket Numbers: ER23-958-000.

Applicants: Cheyenne Light, Fuel and Power Company.

Description: § 205(d) Rate Filing: Revisions to OATT to Facilitate WEIS Market Integration to be effective 4/1/2023.

Filed Date: 1/27/23.

Accession Number: 20230127-5056.

Comment Date: 5 p.m. ET 2/17/23.

Docket Numbers: ER23-959-000.

Applicants: PJM Interconnection, L.L.C.

Description: § 205(d) Rate Filing: Amendment to ISA, Service Agreement No. 6154; Queue No. AE1-185 to be effective 12/31/9998.

Filed Date: 1/27/23.

Accession Number: 20230127-5060.

Comment Date: 5 p.m. ET 2/17/23.

Docket Numbers: ER23-960-000.

Applicants: Public Service Company of Colorado.

Description: § 205(d) Rate Filing: 2023-01-27 PSCo Entry into SPP WEIS Market to be effective 4/1/2023.

Filed Date: 1/27/23.

Accession Number: 20230127-5070.

Comment Date: 5 p.m. ET 2/17/23.

Docket Numbers: ER23-961-000.

Applicants: Alabama Power Company, Georgia Power Company, Mississippi Power Company.

Description: § 205(d) Rate Filing: Alabama Power Company submits tariff filing per 35.13(a)(2)(iii: FP&L Interconnection Contract Amendment Filing to be effective 1/12/2023.

Filed Date: 1/27/23.

Accession Number: 20230127-5081.

Comment Date: 5 p.m. ET 2/17/23.

Docket Numbers: ER23-962-000.

Applicants: PJM Interconnection, L.L.C.

Description: § 205(d) Rate Filing: Amendment to ISA, Service Agreement No. 6116; Queue No. AE1-129 to be effective 12/31/9998.

Filed Date: 1/27/23.

Accession Number: 20230127-5084.

Comment Date: 5 p.m. ET 2/17/23.

Docket Numbers: ER23-963-000.

Applicants: PJM Interconnection, L.L.C.

Description: § 205(d) Rate Filing: Amendment to WMPA, SA No. 4410; Queue No. Z2-077 to be effective 2/9/2016.

Filed Date: 1/27/23.

Accession Number: 20230127-5154.

Comment Date: 5 p.m. ET 2/17/23.

Docket Numbers: ER23-964-000.

Applicants: Florida Power & Light Company.

Description: § 205(d) Rate Filing: FPL Variable Energy Resource Wheeling Transmission Service under the OATT to be effective 4/1/2023.

Filed Date: 1/27/23.

Accession Number: 20230127-5162.

Comment Date: 5 p.m. ET 2/17/23.

Docket Numbers: ER23-965-000.

Applicants: Aragonne Wind LLC.

Description: Compliance filing: Notice of Change in Status and Revised Market-Based Rate Tariff to be effective 1/28/2023.

Filed Date: 1/27/23.

Accession Number: 20230127-5170.

Comment Date: 5 p.m. ET 2/17/23.

The filings are accessible in the Commission's eLibrary system (https://elibrary.ferc.gov/idmws/search/fercgensearch.asp) by querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: January 27, 2023.
Kimberly D. Bose,
Secretary.

[FR Doc. 2023-02258 Filed 2-2-23; 8:45 am]

BILLING CODE 6717-01-P